DEPARTMENT OF DEFENSE

Department of the Army, Corps of Engineers

Notice of Availability of Final Environmental Impact Statement for the Proposed Rio del Oro Specific Plan Project, in Sacramento County, CA, Corps Permit Application number SPK-1999-00590

AGENCY: Department of the Army, U.S. Army Corps of Engineers, DOD.

ACTION: Notice of availability.

SUMMARY: Pursuant to the National Environmental Policy Act (NEPA), the U.S. Army Corps of Engineers (USACE), Sacramento District has prepared a Final Environmental Impact Statement (FEIS) for the Rio del Oro Specific Plan Project, a proposed master-planned, mixed use development within south-eastern Sacramento County.

On December 8, 2006, USACE published a notice in the Federal Register (71 FR 71142), informing the public of the availability of the Draft Environmental Impact Statement (DEIS) that analyzes the potential effects of implementing each of five alternative scenarios for a mixed-use development in the approximately 3,828-acre Rio del Oro Specific Plan Area. In response to new information and comments received on the DEIS, on May 7, 2008, USACE published a notice in the Federal Register (73 FR 25687) which provides new information and additional analyses related to utilities and service systems (specifically water supply) and provides additional analyses of each of the five alternative scenarios analyzed in the 2006 DEIS.

The FEIS has been prepared to respond to comments received from agencies, organizations, and members of the public on the 2006 DEIS and 2008 SDEIS, and to present corrections, revisions, and other clarifications and amplifications of the 2006 DEIS and 2008 SDEIS, including minor project modifications made in response to these comments and as a result of the applicants' ongoing planning efforts.

The FEIS has been prepared as joint documents with the City of Rancho Cordova (City). The City is the local agency responsible for preparing an Environmental Impact Report in compliance with the California Environmental Quality Act (CEQA). The USACE is the lead Federal agency responsible for the FEIS and information contained in the DEIS, SDEIS and FEIS serves as the basis for a decision regarding issuance of an individual permit under section 404 of the Clean Water Act. It also provides information for Federal, State and local agencies having jurisdictional responsibility for affected resources. All incoming comments on the FEIS will be considered by USACE and responses will be provided for substantive issues raised which have not been addressed in the DEIS, SDEIS or FEIS.

DATES: All written comments must be postmarked on or before August 9, 2010.

ADDRESSES: Comments may be submitted in writing to: Lisa M. Gibson, U.S. Army Corps of Engineers, Sacramento District, Regulatory Division; 1325 J Street, Room 1480, Sacramento, CA 95814-2922, or via e-mail to Lisa.M.Gibson2@usace.army.mil.

FOR FURTHER INFORMATION CONTACT: Lisa M. Gibson, (916) 557-5288, or via e-mail at Lisa.M.Gibson2@usace.army.mil.

SUPPLEMENTARY INFORMATION: Elliott Homes, Inc., and GenCorp, the project applicants, are requesting a Section 404 individual permit from USACE for the placement of fill material into 27.903 acres of waters of the United States for the construction of the Rio del Oro Specific Plan project, which involves the construction of a mixed use development that supports a combination of employment generating uses, retail and supporting services, recreational uses, and a broad range of residential uses and associated infrastructure and roads on an approximately 3,828-acre site in eastern Sacramento County, south of U.S. Highway 50.

The FEIS is available for review at the following locations:

(1) An electronic version of the FEIS may be downloaded and reviewed at the USACE, Sacramento District Web site: http://www.spk.usace.army.mil/organizations/cespk-co/regulatory/EISs/EIS-index.html:

(2) A hardcopy of the FEIS will be available for review by appointment only at USACE, Sacramento District, 1325 J Street, Sacramento, CA 95814-2922. To schedule an appointment please contact Lisa M. Gibson at (916) 557-5288.

(3) A hardcopy of the FEIS will be available for review at the City of Rancho Cordova City Hall, Planning Department, 2729 Prospect Park Drive, Rancho Cordova, CA 95670.

Dated: June 24, 2010.
Thomas C. Chapman,
Colonel, U.S. Army, District Engineer.

[FR Doc. 2010-16899 Filed 7-9-10; 8:45 am]

BILLING CODE 3720-58-P